NATIONAL FOUNDATION ON THE ARTS AND THE HUMANITIES

National Endowment for the Arts

Subject 30-Day Notice for the “Program and Event Feedback Surveys for the Creative Forces®: NEA Military Healing Arts Network Community Arts Engagement Subgranting Program”; Proposed Collection; Comment Request

AGENCY: National Endowment for the Arts, National Foundation on The Arts And The Humanities.

ACTION: Notice.

SUMMARY: The National Endowment for the Arts (NEA), as part of its continuing effort to reduce paperwork and respondent burden, conducts a preclearance consultation program to provide the general public and federal agencies with an opportunity to comment on proposed and/or continuing collections of information in accordance with the Paperwork Reduction Act of 1995. This program helps to ensure that requested data is provided in the desired format; reporting burden (time and financial resources) is minimized; collection instruments are clearly understood; and the impact of collection requirements on respondents is properly assessed. Currently, the National Endowment for the Arts is soliciting comments concerning the proposed information collection through two surveys for individuals who participate in community arts programs (Program Feedback Survey) and events (Event Feedback Survey) funded by the Creative Forces®: NEA Military Healing Arts Network Community Arts Engagement Subgranting Program. Copies of this ICR, with applicable supporting documentation, may be obtained by visiting www.Reginfo.gov.

DATES: Written comments must be submitted to the office listed in the address section below within 30 days from the date of this publication in the Federal Register.

ADDRESSES: Written comments and recommendations for proposed information collection requests should be sent within 30 days of publication of this Notice to www.reginfo.gov/public/do/PRAMain. Find this particular information collection request by selecting “National Endowment for the Arts” under “Currently Under Review;” then check “Only Show ICR for Public Comment” checkbox. Once you have found this information collection request, select “Comment,” and enter or upload your comment and information. Alternatively, comments should be sent to the Office of Information and Regulatory Affairs, Attn: OMB Desk Officer for the National Endowment for the Arts, Office of Management and Budget, Room 10235, Washington, DC 20503 202/395-7316, within 30 days from the date of this publication in the Federal Register.

SUPPLEMENTARY INFORMATION: The NEA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including using appropriate automated, electronic, mechanical, or other technological collection techniques or other forms of information technology, e.g., permitting electronic submission of responses.

Title: Program and Event Feedback Surveys for the Creative Forces®: NEA Military Healing Arts Network Community Arts Engagement Subgranting Program.

OMB Number: New.

Frequency: Annual program feedback surveys; one-time event feedback surveys.

Affected Public: Participants/attendees of Creative Forces Community Engagement Programs/Events.

Estimated Number of Respondents: 945 annually (420 program participants + 525 event attendees per year).

Total Burden Hours: 78.7 annually (35 for program participants + 43.5 for event attendees per year).

Total annualized capital/startup costs: 0.

Total annual costs (operating/maintaining systems or purchasing services): $40,000.00.

Description: The planned data collection is a new information collection request, and the data to be collected are not available elsewhere unless obtained through this information collection. This collection will include two feedback surveys to be administered by grantees of the Creative Forces Community Engagement Grant Program: The Program Feedback Survey and the Event Feedback Survey. This is a new grant program of the Arts Endowment. Data collection activities will occur annually through the grant program, with the first cycle of grants awarded in 2022. Knowledge gained through this information collection will enable the Arts Endowment to collect feedback on Creative Forces programs and events.

The Creative Forces®: NEA Military Healing Arts Network seeks to improve the health, well-being, and quality of life for military and veteran populations exposed to trauma, and for their families and caregivers through clinical and non-clinical programs (https://www.arts.gov/initiatives/creative-forces). Creative Forces is funded through Congressional appropriation. The Congressional Committee on Appropriation “supports the NEA's continued efforts to expand upon this successful program to embed Creative Arts Therapies at the core of integrative care efforts in clinical settings, advance collaboration among clinical and community arts providers to support wellness and reintegration efforts for affected families, and advance research to improve our understanding of impacts of these interventions in both clinical and community settings.”

According to the National Endowment for the Arts 2018-2022 Strategic Plan, evidence building for Strategic Objective 2.4, Support Access to Creative Arts Therapies and Evidence-Based Programs in the Arts and Health, involves “the development of a community engagement research agenda and framework for defining indicators and developing metrics for measuring the impact and benefits from participation in therapeutic arts interventions and community-based arts engagement programs aligned with, or complementary to, Creative Forces clinical program outcomes.”

Beginning in 2022, Creative Forces will award Community Engagement Grants to support non-clinical arts engagement programming for military-connected populations through matching grants of $10,000 to $50,000 for emerging (“Emerging”) and established (“Advanced”) community-based arts engagement projects to serve military-connected populations. The Arts Endowment anticipates awarding approximately 35 awards annually, with the first round of grant-funded projects taking place after July 1, 2022. The grant program will support a range of program models (e.g., ongoing class, drop-in studio, single event) designed to meet local needs. The grant program will be the largest coordinated effort in the U.S. to provide community arts engagement programming for military and veteran populations exposed to trauma, and for their families and caregivers. The Creative Forces Community Engagement Grant Program is conducted in partnership with Mid-America Arts Alliance (M-AAA).

The Program and Event Feedback Surveys gather data from program participants and from attendees of public events about their satisfaction and level of engagement with the activities. The Event Feedback Survey also gathers information about participants' understanding of the value of arts and understanding of military experience and culture. The data is collected by grantees, who administer the surveys, and uploaded to a central, national database. Grantees will receive site-level data to use in ongoing program improvement and grant reporting. Grantees of the Community Engagement Grant Program are required to participate in technical assistance to ensure they are able to administer the surveys, collect the data, and use the data to guide decisions about their programs. The Arts Endowment will use the data to monitor program outputs as part of grant program performance measurement.

Dated: March 4, 2022.
Meghan Jugder,
Support Services Specialist, Office of Administrative Services & Contracts, National Endowment for the Arts.

[FR Doc. 2022-04985 Filed 3-8-22; 8:45 am]

BILLING CODE 7537-01-P